NUCLEAR REGULATORY COMMISSION

[Docket No. 030-36974]

Notice of Availability—Consideration of Terrorist Acts on the Proposed Pa'ina Hawaii, LLC Irradiator in Honolulu, HI

AGENCY: Nuclear Regulatory Commission.

ACTION: Notice of availability of opportunity to provide comments.

SUMMARY: Notice is hereby given that the U.S. Nuclear Regulatory Commission (NRC) is issuing a supplement to a recently published draft Environmental Assessment (EA) for the Pa'ina Hawaii, LLC license application, dated June 27, 2005. The draft EA was previously issued for public review and comment on December 28, 2006 (71 FR 78231) as part of the NRC's decision-making process on whether to issue a license to Pa'ina, pursuant to Title 10 of the U.S. Code of Federal Regulations Part 36, “Licenses and Radiation Safety Requirements for Irradiators.” This supplemental appendix to the draft EA presents the staff's consideration of terrorist acts at the proposed irradiator. The staff is also providing the public an opportunity to comment as described below. The draft EA and this supplement are available on the NRC's Web site: http://www.nrc.gov/materials.html by selecting “Pa'ina Irradiator” in the Quick Links box. Copies are also available by contacting Matthew Blevins as noted below.

DATES: The public comment period on this supplemental appendix to the draft EA begins with publication of this notice and continues until July 9, 2007. Written comments should be submitted as described in the ADDRESSES section of this notice. Comments submitted by mail should be postmarked by that date to ensure consideration. Comments received or postmarked after that date will be considered to the extent practical.

ADDRESSES: Members of the public are invited and encouraged to submit comments to the Chief, Rules Review and Directives Branch, Mail Stop T6-D59, U.S. Nuclear Regulatory Commission, Washington, DC 20555-0001. Please note Docket No. 030-36974 when submitting comments. Comments will also be accepted by e-mail at NRCREP@nrc.gov or by facsimile to (301) 415-5397, Attention: Matthew Blevins.

FOR FURTHER INFORMATION CONTACT: Matthew Blevins, Environmental Project Manager, Environmental and Performance Assessment Branch, Division of Waste Management and Environmental Protection, Mail Stop T7-J8, U.S. Nuclear Regulatory Commission, Washington, DC 20555-0001. Telephone: (301) 415-7684; e-mail: mxb6@nrc.gov.

Dated at Rockville, Maryland this 1st day of June, 2007.
For the Nuclear Regulatory Commission.
Gregory Suber,
Chief, Environmental Review Branch, Division of Waste Management and Environmental Protection, Office of Federal and State Materials and Environmental Management Programs.

[FR Doc. E7-11108 Filed 6-7-07; 8:45 am]

BILLING CODE 7590-01-P